DEPARTMENT OF THE INTERIOR

Fish and Wildlife Service

50 CFR Part 17

Endangered and Threatened Wildlife and Plants; 12-Month Finding on a Petition To List the Colorado River Cutthroat Trout as Threatened or Endangered

AGENCY: Fish and Wildlife Service, Interior.

ACTION: Notice; opening of public comment period on status review, and announcement of informational workshop.

SUMMARY: We, the U.S. Fish and Wildlife Service (Service), announce the opening of a public comment period regarding the status of Colorado River cutthroat trout (Oncorhynchus clarki pleuriticus) in the United States. This status review has been initiated pursuant to a recent court order requiring us to prepare a 12-month finding on a petition to list the subspecies as threatened or endangered under the Endangered Species Act of 1973, as amended (Act). Through this action, we encourage all interested parties to provide us information regarding the status of, and any potential threats to, this fish.

DATES: Comments must be submitted on or before January 8, 2007. The informational workshops will be held on December 6, 2006, from 1 p.m. to 5 p.m. and on December 7, 2006, from 8 a.m. to 12 p.m.

ADDRESSES: Written comments: If you wish to comment, you may submit your comments and materials by any one of the following methods:

(1) You may mail or hand-deliver written comments and information to Colorado River Cutthroat Trout Comments, U.S. Fish and Wildlife Service, 764 Horizon Drive, Building B, Grand Junction, Colorado 81506-3946.

(2) You may electronic mail (e-mail) your comments to coloradorivercut@fws.gov. For directions on how to submit comments by e-mail, see the “Public Comments Solicited” section of this notice. In the event that our Internet connection is not functional, please submit your comments by mail, hand-delivery, or fax to (970) 245-6933.

Informational workshop: The informational workshop will be held at the Holiday Inn, 755 Horizon Drive, Grand Junction, Colorado.

FOR FURTHER INFORMATION CONTACT: Patty Gelatt, U.S. Fish and Wildlife Service, 764 Horizon Drive, Building B, Grand Junction, Colorado 81506-3946 (fax 970-245-6933; telephone 970-243-2778, extension 26; e-mail patty_schradergelatt@fws.gov). Additional information is available at http://mountain-prairie.fws.gov/species/fish/crct/.

SUPPLEMENTARY INFORMATION:

Background

On December 16, 1999, we received a formal petition from the Center for Biological Diversity (CBD) and other petitioners to list the Colorado River cutthroat trout as threatened or endangered. On January 12, 2000, we notified CBD that we could not immediately address the petition because of other higher priority listing activities. In October 2000, CBD filed a complaint in the U.S. District Court for the District of Columbia alleging that we had failed to make a timely 90-day finding. We subsequently completed the 90-day review process, and on April 20, 2004, we published a 90-day finding in the Federal Register (69 FR 21151) that determined the petition failed to present substantial scientific and commercial information indicating that listing this subspecies may be warranted.

After our 90-day finding was published, plaintiffs amended their October 2000 complaint alleging that we used the wrong procedures and standards to assess the petition. From approximately January 2002 through April 2004, we received important information relevant to the status of Colorado River cutthroat trout from the Game and Fish Departments of Colorado, Utah, and Wyoming, and from the National Park Service, Bureau of Land Management, and the U.S. Forest Service. According to CBD's complaint, this information was used inappropriately in our 90-day finding because we solicited information and opinions only from limited outside sources. On September 7, 2006, the Court ruled in favor of the plaintiffs and ordered us to produce a status review and 12-month finding for Colorado River cutthroat trout within 9 months.

Section 4(b)(3)(B) of the Act (16 U.S.C. 1531 et seq.) requires that we make a 12-month finding as to whether a petitioned action is (a) not warranted, (b) warranted, or (c) warranted but precluded by other pending proposals to determine whether other species are threatened or endangered, and we are making expeditious progress to list or delist qualified species. The 12-month finding is to be based on a status review that is initiated by a “substantial information” finding.

At this time, we are opening a 60-day comment period to allow all interested parties an opportunity to provide information on the status of the Colorado River cutthroat trout and potential threats to the subspecies. We will base our 12-month finding on a review of the best scientific and commercial information available, including all such information received during the public comment period.

Informational Workshop

An informational workshop will be held on December 6, 2006, from 1 p.m. to 5 p.m. and on December 7, 2006, from 8 a.m. to 12 p.m. at the Holiday Inn, 755 Horizon Drive, Grand Junction, Colorado. The purpose of the workshop is to provide an opportunity for dialogue between the Service's decision-makers and parties interested in providing information regarding the status of, or threats to, Colorado River cutthroat trout. We invite State and Federal resource agencies, the petitioners, and any other interested parties to attend the workshop. Those interested in discussing their information may request a time slot by sending an e-mail to coloradorivercut@fws.gov. Please indicate the approximate presentation time desired, the name of the presenter, and the organization represented. It also will be possible to sign up for a time slot (maximum 15 minutes) at the workshop. Shorter time slots will be scheduled for December 7 at the conclusion of the prescheduled presentations.

Public Comments Solicited

When our 12-month review process has been completed, our practice is to make comments, including names and home addresses of respondents, available for public review during regular business hours. Individual respondents may request that we withhold their names and home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives of or officials of organizations or businesses, available for public inspection in their entirety.

Please include “Attn: Colorado River cutthroat trout” and your name and return address in your e-mail message. If you do not receive a confirmation from the system that we have received your e-mail message, please submit your comments in writing using one of the alternate methods described above.

Author

The primary author of this document is Patty Gelatt, Fish and Wildlife Biologist, U.S. Fish and Wildlife Service, Ecological Services, Grand Junction, Colorado.

Authority

The authority for this action is the Endangered Species Act of 1973, as amended (16 U.S.C. 1531 et seq.).

Dated: October 31, 2006.
Marshall Jones,
Acting Director, Fish and Wildlife Service.

[FR Doc. E6-18691 Filed 11-6-06; 8:45 am]

BILLING CODE 4310-55-P